DEPARTMENT OF AGRICULTURE

Rural Utilities Service

Southern Illinois Power Cooperative; Notice of Finding of No Significant Impact

AGENCY: Rural Utilities Service, USDA.

ACTION: Notice of finding of no significant impact.

SUMMARY: Notice is hereby given that the Rural Utilities Service (RUS) has made a finding of no significant impact (FONSI) with respect to a project proposed by Southern Illinois Power Cooperative (SIPC) of Marion, Illinois. SIPC is proposing the addition of two simple-cycle combustion turbine units, each with a generating capacity of 83 MW, to be located in Williamson County at their existing Marion Station.

FOR FUTHER INFORMATION CONTACT: Nurul Islam, Environmental Protection Specialist, Rural Utilities Service, Engineering and Environmental Staff, Stop 1571, 1400 Independence Avenue, SW, Washington, DC 20250-1571, telephone: (202) 720-1414, e-mail: nislam@rus.usda.gov. Information is also available from Mr. Dick Myott, Environmental & Planning Department Manager, SIPC, 11543 Lake of Egypt Road, Marion, Illinois 62959, telephone (618) 964-1448 Ext. 268, e-mail rmyott@sipower.org.

SUPPLEMENTARY INFORMATION: RUS, in accordance with its environmental policies and procedures, required that SIPC prepare an Environmental Analysis reflecting the potential impacts of the proposed facilities. The Environmental Analysis, which includes input from federal, state, and local agencies, has been reviewed and accepted as RUS” Environmental Assessment (EA) for the project in accordance with 7 CFR 1794.41. The proposed project will be located in Williamson County, eight miles south of Marion, Illinois. The total amount of farmland that would be converted to non-agricultural use is estimated to be about 30 acres. Approximately 18 acres will be required for the units including the combustion turbines and support facilities. The proposed units will be constructed immediately west of the existing plant site on land owned by SIPC. The land was previously used for farming activities and is contained within sections 26, 27, and 35, Township 15 South, Range 2 East. The nearest airport, Williamson County Airport, is located approximately 8 miles north of the proposed site. The CT project will require two new stacks, each stack will be less than 60 feet tall. The height of the stacks is significantly lower than the height of nearby existing plant structures (stacks height varies between 200-400 ft.). No FAA permit will be required for the facility. We have determined that the proposed facility will not pose any hazards to air navigation.

The existing transmission facilities are adequate for the additional power generated by the new CT units and no additional transmission facilities are considered at present. The CT project will require the routing of natural gas pipeline to the site. The proposed gas pipeline is approximately 5.75 miles long. Generally the construction of the pipeline will require a right-of-way approximately 30 to 40 feet wide. The pipeline crossing of larger streams and wetlands will be accomplished with underground directional boring so that the stream channels, hydrology and vegetation will be least affected. The natural gas pipeline route will potentially affect only one parcel of jurisdictional wetland. The total area of crossing wetland due to natural gas pipeline is estimated to be about 5,750 square feet. Underground boring through the wetlands will minimize the impacts. All permanent streams will be crossed by underground borings while the shallow/intermittent streams will be cut and trenched. There are no floodplains or wetlands in the vicinity of the project location (at CT location); therefore, no impact is anticipated. Based on results of the wetland delineation it is unlikely that the proposed project will require an individual permit from the Corps of Engineers. The U.S. Fish & Wildlife Service and the Illinois Department of Natural Resources identified no significant impacts to fish and wildlife resources due to construction of the proposed project. Therefore, RUS has determined that no threatened or endangered species are likely to be impacted by the proposed construction.

The Illinois State Historic Preservation Officer (SHPO) has reviewed the project and determined that no historic properties will be impacted by the proposed facility. RUS believes the project will have no impact on cultural and historic properties due to construction of the proposed project. However, the project is approved contingent on the following condition: if archaeological remains are discovered during construction activities, the work shall be stopped and SIPC will notify the SHPO and RUS immediately.

SIPC published notices of the availability of the EA and solicited public comments per 7 CFR 1792.42. Notices of availability of EA were published in the Southern Illinoisan newspaper, a daily circular, on April 12 & 13, 2002. The 30-day comment period on the EA for the proposed facility ended on May 14, 2002. No comments were received on the EA.

SIPC committed to follow Federal and state agency recommendations, and secure all necessary permits prior to constructing and operating the CT units. Based on the EA and SIPC's commitments to follow agency recommendations, RUS has concluded that the proposed action will not have a significant effect to various resources, including important farmland, floodplains, wetlands, cultural resources, threatened and endangered species and their critical habitat, air pollution, water quality, and noise. RUS has also determined that there would be no negative impacts of the proposed project on minority communities and low-income communities as a result of the construction of the project. RUS believes that there are no significant unresolved environmental conflicts related to this project.

Dated: May 30, 2002.
Blaine D. Stockton,
Assistant Administrator, Electric Program, Rural Utilities Service.

[FR Doc. 02-14033 Filed 6-4-02; 8:45 am]

BILLING CODE 3410-15-P